ENVIRONMENTAL PROTECTION AGENCY

[OPPTS-00306; FRL-6762-6]

Pollution Prevention Grants and Announcement of Financial Assistance Programs Eligible for Review; Notice of Availability

AGENCY: Environmental Protection Agency (EPA).

ACTION: Notice.

SUMMARY: EPA expects to have approximately $5 million available in fiscal year 2001 grant/cooperative agreement funds under the Pollution Prevention Incentives for States (PPIS) grant program. Grants/cooperative agreements will be awarded under the authority of the Pollution Prevention Act of 1990. The Pollution Prevention Act provides funds to state and tribal programs that address the reduction or elimination of pollution across all environmental media (air, land, and water) and to strengthen the efficiency and effectiveness of state technical assistance programs in providing source reduction information to businesses.

FOR FURTHER INFORMATION CONTACT: For general information about the grant program contact: Christopher Kent, Pollution Prevention Division (7409) Office of Pollution Prevention and Toxics, Environmental Protection Agency, 1200 Pennsylvania Avenue NW, Washington, DC 20460; telephone (202) 260-3480; e-mail address kent.christopher@epa.gov.

For technical and regionally specific information: The EPA Regional Pollution Prevention Coordinator listed under Unit X of this notice.

SUPPLEMENTARY INFORMATION:

I. General Information

A. Does this Action Apply to Me?

This action is directed to state governments, state programs or departments as well as other State institutions, such as universities as well as all federally recognized Native American Tribes. This notice may, however, be of interest to local governments, private universities, private nonprofit entities, private businesses, and individuals who are not eligible for this grant program. If you have any questions regarding the applicability of this action to a particular entity, contact the technical person listed under For Further Information Contact.

B. How Can I Get Additional Information, Including Copies of this Document or Other Related Documents?

1. Electronically. You may obtain electronic copies of this document and certain other related documents that might be available electronically, from the EPA Home Page at http://www.epa.gov/. To access this document, on the Home Page select “Laws and Regulations” and then look up the entry for this document under the “Federal Register—Environmental Documents.” You can also go directly to the Federal Register listings at http://www.epa.gov/fedrgst. These documents are also available at the EPA P2 web site http://www.epa.gov/p2.

C. How and to Whom Do I Submit Comments?

You may submit comments through the mail, in person, or electronically. To ensure proper receipt by EPA, it is imperative that you identify PPIS 2001 in the subject line on the first page of your response.

1. By mail. Submit your comments to: Pollution Prevention Division (7409), Office of Pollution Prevention and Toxics, Environmental Protection Agency, 1200 Pennsylvania Avenue, NW., Washington, DC 20460, ATTN: PPIS.

2. In person or by courier. Deliver your comments to: Pollution Prevention Division, Office of Pollution Prevention and Toxics, Environmental Protection Agency, Room 409 East Tower, 401 M St., SW., Washington, DC 20460, ATTN: PPIS.

3. Electronically. You may submit your comments electronically by e-mail to: “kent.christopher@epa.gov,” or mail your computer disk to the address identified in this unit. Do not submit any information electronically that you consider to be CBI. Electronic comments must be submitted as an ASCII file avoiding the use of special characters and any form of encryption. Comments and data will also be accepted on standard disks in WordPerfect, Word, or ASCII file format.

II. Background of the Pollution Prevention Incentives for States Grant Program

More than $60 million has been awarded to over 100 state and tribal organizations under EPA's multimedia pollution prevention grant program, since its inception in 1989. During the past 10 years, PPIS funds have enabled state programs to implement a wide range of pollution prevention activities including over 8,000 pollution prevention assessments, 1,200 workshops, and the development of over 500 pollution prevention case studies. PPIS grants also provide economic benefits to small businesses by funding state technical assistance programs focused on helping the businesses develop more efficient production technologies and operate more cost effectively.

The goals of the PPIS grant program are to assist businesses and industries in identifying better environmental strategies and solutions for complying with Federal and state environmental regulations. PPIS grants are designed to affect the compatibility of businesses environmental and economic decision making, and improving competitiveness without increasing environmental impacts. Successes include decreases in facility emissions and discharges which lead to less stringent regulatory and permitting requirements, increases in production rates that correlate to decreasing environmental costs, elevated investments in new and better technologies, and savings that directly impact the overall profitability of a business. The majority of the PPIS grants fund state-based projects in the areas of technical assistance and training, education and outreach, regulatory integration, data collection and research, demonstration projects, and recognition programs.

In November 1990, the Pollution Prevention Act of 1990 (the Act) (Public Law 101-508) was enacted, establishing as national policy that pollution should be prevented or reduced at the source whenever feasible.

1. Section 6603 of the Act defines source reduction as any practice that:

i. Reduces the amount of any hazardous substance, pollutant, or contaminant entering any waste stream or otherwise released into the environment (including fugitive emissions) prior to recycling, treatment, or disposal.

ii. Reduces the hazards to public health and the environment associated with the release of such substances, pollutants, or contaminants.

EPA further defines pollution prevention as the use of other practices that reduce or eliminate the creation of pollutants through increased efficiency in the use of raw materials, energy, water, or other resources, or protection of natural resources, or protection of natural resources by conservation.

2. Section 6605 of the Act authorizes EPA to make matching grants to states to promote the use of source reduction techniques by businesses. In evaluating grant applications, the Act directs EPA to consider whether the proposed state program will:

i. Make technical assistance available to businesses seeking information about source reduction opportunities, including funding for experts to provide onsite technical advice and to assist in the development of source reduction plans.

ii. Target assistance to businesses for which lack of information is an impediment to source reduction.

iii. Provide training in source reduction techniques.

III. Availability of FY 2001 Funds

EPA expects to have approximately $5 million in grant/cooperative agreement funds available for FY 2001- 2002 pollution prevention activities. The Agency has delegated grant making authority to the EPA regional offices. EPA regional offices are responsible for the solicitation of interest and the screening of proposals.

All applicants must address the national program criteria listed under Unit VI.2.ii. of this document. In addition, applicants may be required to meet supplemental EPA regional criteria. Interested applicants should contact their EPA Regional Pollution Prevention Coordinator, listed under Unit X of this document for more information.

IV. Catalogue of Federal Domestic Assistance

The number assigned to the PPIS program in the Catalogue of Federal Domestic Assistance is 66.708 (formerly 66.900).

V. Matching Requirements

Organizations receiving pollution prevention grant funds are required to match Federal funds by at least 50%. For example, the Federal government will provide half of the total allowable cost of the project, and the state will provide the other half. State contributions may include dollars, in-kind goods and services, and/or third party contributions.

VI. Eligibility

1. Applicants. In accordance with the Act, eligible applicants for purposes of funding under this grant program include the 50 states, the District of Columbia, the U.S. Virgin Islands, the Commonwealth of Puerto Rico, any territory or possession of the United States, any agency or instrumentality of a state including state universities, and all federally recognized Native American Tribes. For convenience, the term “state” in this notice refers to all eligible applicants. Local governments, private universities, private nonprofit entities, private businesses, and individuals are not eligible. State applicants are encouraged to establish partnerships with business and other environmental assistance providers to seamlessly deliver pollution prevention assistance. Successful applicants will be those that make the most efficient use of Federal/state government funding. In many cases, this has been accomplished through partnerships.

2. Activities and criteria—i. General. The purpose of the PPIS grant program is to support the establishment and expansion of state and tribal multimedia pollution prevention programs. EPA specifically seeks to build state pollution prevention capabilities or to test, at the state level, innovative pollution prevention approaches and methodologies. Funds awarded under the PPIS grant program must be used to support pollution prevention programs that address the transfer and reduction of potentially harmful pollutants across all environmental media: Air, water, and land. Programs should reflect comprehensive and coordinated pollution prevention planning and implementation efforts state-wide. States that include PPIS funding as part of their overall State Performance Partnership Agreement (PPA)/Performance Partnership Grant (PPG) program satisfy this eligibility criteria.

ii. 2001 national program criteria. This section describes the national program criteria EPA will use to evaluate proposals under the PPIS grant program. In addition to the national program criteria, there may be regionally specific criteria that the proposing activities are required to address. For more information on the EPA regional requirements, applicants should contact their EPA Regional Pollution Prevention Coordinator, listed under Unit X of this document. As well as ensuring that the proposed activities meet EPA's definition of pollution prevention, the applicant's proposal must include how they address the following three activities:

a. Promote partnering among environmental and business assistance providers. Starting in 1994, EPA required PPIS grant applicants to identify other environmental assistance providers in their states and to work with these organizations to educate businesses on pollution prevention. EPA would like to continue to encourage cooperation among state pollution prevention programs and other environmental and business assistance providers such as the National Institute of Standards and Technology (NIST) programs, Small Business Development Centers (SBDCs), Small Business Assistance Programs (SBAPs), Office of Enforcement and Compliance Assistance (OECA) Compliance Assistance Centers, the large number of university cooperative extension programs and other business and environmental assistance programs at the state level, as well as other well established nonregulatory programs. In part, through the PPIS grant funds, EPA is striving to support the development of a coordinated network of state environmental service providers that leverages the expertise of the various environmental assistance organizations and shows an ability to work jointly in an effort to promote pollution prevention in the state. EPA wants to help foster a cooperative network of environmental assistance providers since cooperation among state business and environmental assistance providers is paramount in this era of shrinking Federal funded programs. EPA would like to ensure that state pollution prevention programs and other assistance providers establish cooperative working relationships which make best use of their respective areas of expertise and most effectively serve their clients. State and tribal grant applicants should identify the partnering organization(s) they plan to work with during the grant funding cycle and demonstrate or document the relationship. This can be done, for example, through a letter of agreement, a joint statement, or principles of agreement signed by both parties or multiple parties. If the partnership involves providing Federal funds to ineligible entities, the grantees shall abide by state procurement regulations, as required by state law.

b. Advance state environmental goals. EPA believes it is important for the sustainability of state pollution prevention programs to complement the goals and strategies of the state's environmental strategic plans and/or the activities included under the National Environmental Performance Partnership System (NEPPS) in an effort to show that the pollution prevention work they are undertaking complements and supports the state's environmental strategic plans. If the state environmental program lacks a single comprehensive environmental strategy, applications must show a correlation between the proposed activity and the goals or objectives of the state's environmental program. EPA believes pollution prevention programs will continue to be valuable to the state environmental agency's top management if they can demonstrate how their actions will help advance state goals. EPA would like to ensure that pollution prevention is integrated at the state level by providing a service which supports the state's strategic plan. The grant application narrative should demonstrate how pollution prevention activities will advance state environmental goals as stated in the state environmental strategic planning documents or either PPA or PPG.

c. Promote accomplishments within the state's environmental programs. EPA realizes the importance of documenting the program effectiveness and communicating those results to the affected media office. EPA wants to ensure that the environmental programs in the state are aware of the contributions of the pollution prevention program within their sectors, programs, and geographic areas by making a link between the regulatory program and the activities of the pollution prevention program. By creating this positive feedback mechanism to the state's regulatory program, the grantee can market their accomplishments and consequently help promote the sustainability of the pollution prevention program. Through the PPIS grants, EPA is working to encourage better awareness by the state regulatory and media programs of how pollution prevention and the state pollution prevention programs are helping the regulatory programs address increasingly complex environmental management problems. Applications must include what activities the pollution prevention program will undertake to ensure communication and feedback to the regulatory and other environmental programs showing how pollution prevention is helping to advance multimedia environmental protection.

3. Identifiable measures of success. For each of the activities identified in the application, the applicant must identify how and what criteria they are using to track the effectiveness of the activity. Measures of success should be either measures of environmental improvement, or should be directly linked to such measures. For example, success could be identified by demonstrating a direct link between the project's activities and in quantifiable reductions in pollution generated or in the natural resources used. Most of the EPA regional offices have specific measurement structures (Region X in Global Reporting Initiative, NEWMOA's state measures in Region I, Region VIII new measurement project) in which to apply the grant activities towards. Please contact the appropriate Regional Pollution Prevention Coordinator, listing under Unit X of this document for more information on what measurement tool they are using.

4. Program management. Awards for FY 2001 funds will be managed through the EPA regional offices. Applicants should contact their EPA Regional Pollution Prevention Coordinator, listed under Unit X of this document, to obtain specific deadlines for submitting proposals. National funding decisions will be made by May 2001.

VII. Use of P2Rx Regional Centers

A priority that EPA considers important to strengthen state P2 activities and aid the formation of partnerships with other business assistance providers is the Pollution Prevention Resource Exchange (P2Rx). EPA has allocated a portion of its state grant funds to develop and sustain regional pollution prevention centers that facilitate and serve state needs in coordinating training and information development. EPA believes that the P2Rx network, which connects and coordinates regional pollution prevention information centers, can benefit both states programs and their clients by improving the quality and availability of pollution prevention technical information, sharing information, minimizing duplication of efforts in developing materials for training and technical assistance providers, providing for the development of quality peer reviewed P2 information, and expanding their understanding of how other states are addressing the needs of business assistance providers. For more information, visit the P2Rx web site at http://www.p2rx.org.

EPA would like the grantees to use the resources available through their regional P2Rx center throughout the entire grant process. After 10 years, there is a large amount of P2 information available, but finding high quality resources can be difficult. Thus, the creation of these P2Rx centers, can provide greater access to P2 value-added information.

For example, grantees should contact the appropriate P2Rx center prior to starting any work to find out what information is currently available within that sector. Below is a listing of the regionally specific topics for each of the P2Rx centers. As products are generated from the grant, all work products (i.e., including but not limited to flyers, fact sheets, pamphlets, handbooks, model curricula, assessment and audit tools, videos, and event brochures) produced with Federal PPIS funds will be shared with the appropriate regional P2Rx center. To facilitate the transfer of information generated by pollution prevention grant dollars, all products from a P2 grant must be shared with the appropriate regional center. Please contact the EPA Regional Pollution Prevention center which is researching your grant topic.

The following list shows the P2Rx centers and the topic they are researching and synthesizing information on:

Regions I-II (Connecticut, Maine, Massachusetts, New Hampshire, New York, Rhode Island, Vermont) P2Rx Center - The Northeast Regional P2 Information Center serves as the topic hub on marinas, mercury, and metal fabrication projects.

Regions III-IV: (Delaware, Alabama, Florida, Georgia, Kentucky, Maryland, Mississippi, North Carolina, Pennsylvania, South Carolina, Tennessee, Virginia, West Virginia ) P2Rx Center - The Waste Reduction Resource Center serves as the topic hub on Department of Defense and environmental management systems projects.

Region V (Illinois, Indiana, Michigan, Minnesota, Ohio, Wisconsin) P2Rx Center - The Great Lakes Regional Pollution Prevention Roundtable (GLRPPR) serves as the topic hub for printing and regulatory integration projects.

Region VI (Arkansas, Louisiana, New Mexico, Oklahoma, Texas) P2Rx Centers- The Southwest P2 InfoSource serves as the topic hub for electric utilities, gas and oil, and lean manufacturing projects.

Region VII (Iowa, Kansas, Missouri, Nebraska) P2Rx Center - The Pollution Prevention Regional Information Center serves as a topic hub for Contained Animal Feeding Operations (CAFO), green chemistry, green procurement, hospitals, and general P2 information.

Region VIII (Colorado, Montana, North Dakota, South Dakota, Utah, Wyoming) P2Rx Center - The Peaks to Prairies Pollution Prevention Information Center serves as the topic hub for autobody, P2 in outdoor recreation, residential construction and Smart Growth projects.

Region IX (Arizona, California, Hawaii, Nevada) P2Rx Center - The Western Regional Pollution Prevention Network serves as the topic hub for auto repair, and hospitality projects.

Region X (Alaska, Idaho, Oregon, Washington) P2Rx Center - The Pacific Northwest Pollution Prevention Resource Center serves as the topic hub for the aerospace industry, fiberglass fabrication, metal fabrication, metal finishing, metal machining, paint and coating manufacturing, and ship building and repair.

VIII. Proposal Narrative Format

To clearly document the activities listed in the grant proposal, the narrative portion of the application should include a summary of proposed activities using the following format:

1. A description of the proposed work and a timeline of activities.

2. A list of tasks that will be carried out.

3. A list of the resulting deliverables that will be produced.

IX. Progress Report

Progress reports are due to the EPA project officer every April and October after the project period is over 1 month old. A final report is due within 90 days of the end of the grant period.

In addition to the EPA project officer's regionally specific required number of copies of deliverables, please forward one copy of each of the semi-annual progress reports and the final reports (and deliverables) to the Pollution Prevention Division in Washington, DC. Please address the documents to: PPIS Grant Products, Pollution Prevention Division (7409), Environmental Protection Agency, 1200 Pennsylvania Avenue, NW., Washington, DC 20460.

The narrative in the progress reports should refer back to the stated objectives and timeline of the original grant application. Beneath each objective, the objective's current status should be reported. Any substantive diversion from a stated objective, or any deviation from the proposed timeline should be explained. Only the activities required under the grant, which meet EPA's definition of pollution prevention, should be reported.

At a minimum, the progress reports should also include the following:

1. A short summary of the accomplishments for the reporting period.

2. Progress on completing individual project tasks.

3. The planned and actual schedules for task completion.

4. Projected accomplishments for the next reporting period.

5. Data on financial expenditures by budget category.

Any printed deliverables required under the grant should be enclosed with the first report following the date the deliverable was due to be produced.

A final report will be required upon completion of the grant.

EPA is working on developing a standard electronic format for use by PPIS grantee on reporting their grant activities. Please contact the EPA Regional Pollution Prevention Coordinator, listed under Unit X of this document, for more information on the GranTrack Reporting Form.

X. Regional Pollution Prevention Coordinators

Region I: (Connecticut, Maine, Massachusetts, New Hampshire, Rhode Island, Vermont) Kira Jacobs, 1 Congress St., Suite 1100/SPP, Boston, MA 02114-2023, (617) 918-1817, e-mail: jacobs.kira@epa.gov.

Region II: (New Jersey, New York, Puerto Rico, Virgin Islands) Deborah Freeman (SPMMB), 290 Broadway, 25th Floor, New York, NY 10007, (212) 637-3730, e-mail: freeman.deborah@epa.gov.

Region III: (Delaware, Maryland, Pennsylvania, Virginia, West Virginia, District of Columbia) Lorna Rosenberg, (3E100), 1650 Arch St., Philadelphia PA 19103-2029, (215) 814-5389, e-mail: rosenberg.lorna@epa.gov.

Region IV: (Alabama, Florida, Georgia, Kentucky, Mississippi, North Carolina, South Carolina, Tennessee) Dan Ahern, Atlanta Federal Center, 61 Forsyth St., SW., Atlanta, GA 30303, (404) 562-9028, e-mail: ahern.dan@epa.gov.

Region V: (Illinois, Indiana, Michigan, Minnesota, Ohio, Wisconsin) Phil Kaplan, (DRP-8J), 77 West Jackson Blvd., Chicago, IL 60604-3590, (312) 353-4669, e-mail: kaplan.phil@epa.gov.

Region VI: (Arkansas, Louisiana, New Mexico, Oklahoma, Texas) Joy Campbell, (6EN-XP), 1445 Ross Ave., 12th Floor, Suite 1200, Dallas, TX 75202, (214) 665-0836, e-mail: campbell.joy@epa.gov.

Region VII: (Iowa, Kansas, Missouri, Nebraska) Chilton McLaughlin, (ARTD/TSPP), 901 N 5th St., Kansas City, KS 66101, (913) 551-7517, e-mail: mclaughlin.chilton@epa.gov.

Region VIII: (Colorado, Montana, North Dakota, South Dakota, Utah, Wyoming) Linda Walters, (8P2-P2), 999 18th St., Suite 500, Denver, CO 80202-2405, (303) 312-6030, e-mail: walters.linda@epa.gov.

Region IX: (Arizona, California, Hawaii, Nevada, American Samoa, Guam) Leif Magnuson (WST-7), 75 Hawthorne Ave., San Francisco, CA 94105, (415) 744-2153, e-mail: magnuson.leif@epa.gov.

Region X: (Alaska, Idaho, Oregon, Washington) Carolyn Gangmark, 01-085, 1200 Sixth Ave., Seattle, WA 98101, (206) 553-4072, e-mail: gangmark.carolyn@epa.gov.

XI. Submission to Congress and the Comptroller General

Under the Agency's current interpretation of the definition of a “rule,” grant solicitations such as this which are competitively awarded on the basis of selection criteria, are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Grant administration, Grants, Pollution prevention.

Dated: January 19, 2001.
William H. Sanders,
Director, Office of Pollution Prevention and Toxics.

[FR Doc. 01-2572 Filed 1-29-01; 8:45 am]

BILLING CODE 6560-50-S